DEPARTMENT OF TRANSPORTATION

Information Dissemination Quality Guidelines

AGENCY: Office of the Secretary of Transportation, US Department of Transportation.

ACTION: Updated guidelines.

SUMMARY: The U.S. Department of Transportation (DOT) is issuing updated guidelines to implement section 515 of the Treasury and General Government Appropriations Act for FY 2001. The Office of Management and Budget (OMB) has issued Government-wide guidelines under Section 515 which direct each Federal agency to establish and implement written procedures to ensure and maximize the quality, utility, objectivity and integrity of the information that they disseminate. OMB has directed each agency to update its guidelines in accordance with the requirements of OMB Memorandum M-19-15.

DATES: Comments are due November 6, 2019.

ADDRESSES: You may send comments, identified by DOT-OST-2019-0135, by any of the following methods:

• Follow the instructions for sending comments on www.regulations.gov, or email dockets@dot.gov. Include DOT-OST-2019-0135 in the subject line of the message.

• Mail: Docket Management Facility; U.S. Department of Transportation (DOT), 1200 New Jersey Avenue SE, West Building, Room W12-140, Washington, DC 20590-0001.

• Hand Delivery/Courier: Room W12-140 on the ground level of DOT, West Building, 1200 New Jersey Avenue SE, Washington, DC, between 9:00 a.m. and 5:00 p.m., Monday through Friday, except Federal holidays.

Instructions: All submissions received must include the agency name and docket number for this notice. All comments received will be posted without change to www.regulations.gov, including any personal information provided.

Docket: For access to the docket to read background documents or comments received, go to www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on DOT-OST-2019-0135.” The Docket Clerk will date stamp the postcard prior to returning it to you via the U.S. mail. Please note that due to possible delays in the delivery of U.S. mail to federal offices in Washington, DC, we recommend that persons consider an alternative method (internet, or professional delivery service) of submitting comments to the docket and ensuring their timely receipt at DOT.

FOR FURTHER INFORMATION CONTACT: Daniel Morgan, Chief Data Officer, OST, Department of Transportation at 202-366-9201 or by email at Daniel.Morgan@dot.gov. For specific inquiries on the Department's administration mechanisms for seeking correction of information covered by these guidelines, or for specific inquiries about the Department's statistical guidelines, please refer to the contacts listed in the guidelines.

SUPPLEMENTARY INFORMATION: Pursuant to Section 515 of the Treasury and General Government Appropriations Act for Fiscal Year 2001 (Pub. L. 106-554), and consistent with the Office of Management and Budget's (OMB) “Guidelines for Ensuring and Maximizing the Quality, Objectivity, Utility, and Integrity of Information Disseminated by Federal Agencies,” and OMB Memorandum M-19-15, “Improving Implementation of the Information Quality Act,” the Department is revising its Information Dissemination Quality Guidelines (Guidelines). These guidelines were originally issued in 2002. The Department's Guidelines apply to a wide variety of its information dissemination activities to meet basic information quality standards. The Guidelines provide a framework under which the Department allows affected persons an opportunity to seek and obtain correction of information maintained and disseminated by the Department that does not comply with these guidelines.

The written procedures established within DOT's guidelines apply to the following organization components of the Department: The Office of the Secretary, the Federal Aviation Administration, the Federal Motor Carrier Safety Administration, the Federal Railroad Administration, the Federal Transit Administration, the Maritime Administration, the National Highway Traffic Safety Administration, the Pipeline and Hazardous Materials Safety Administration, and the Saint Lawrence Seaway Development Corporation.

The updated guidelines are available on the Department's website at https://www.transportation.gov/dot-information-dissemination-quality-guidelines and in the docket. The Department seeks comment on the guidelines and the proposed changes.

Authority: Issued in Washington, DC on October 1, 2019.
Ryan Cote,
Chief Information Officer, Department of Transportation, Office of the Secretary.

The Department of Transportation's Information Dissemination Quality Guidelines

What is the purpose of this posting?

Consistent with The Office of Management and Budget's (OMB) Guidelines for Ensuring and Maximizing the Quality, Objectivity, Utility, and Integrity of Information Disseminated by Federal Agencies implementing Section 515 of the Treasury and General Government Appropriations Act for Fiscal Year 2001 (Pub. L. 106-554) and the requirements outlined in OMB Memorandum M-19-15, Improving Implementation of the Information Quality Act, the U.S. Department of Transportation (henceforth DOT or Department) is updating guidelines explaining how the Department will ensure the quality of disseminated information. This document also explains how affected persons may seek and obtain corrections of information that does not comply with these Information Quality guidelines.

What version are these guidelines?

These Guidelines were originally published on October 1, 2002 and were updated on October 1, 2019.

When are these guidelines effective?

These Guidelines are effective October 1, 2019.

Who should be contacted for further information about these guidelines?

Daniel Morgan, Assistant Chief Information Officer for Data Services/Chief Data Officer, DOTCIO@dot.gov or 202-366-9201. For inquiries on the Department's administrative mechanisms for persons to seek correction of information, please contact the Office of the General Counsel, 202-366-4702. For inquiries on the guidelines concerning statistical disseminated information, contact the Bureau of Transportation Statistics, U.S. Department of Transportation; 800-853-1351 or 202-366-DATA (3282). Written correspondence may be addressed to the U.S. Department of Transportation, Office of the Chief Information Officer (S-80), 1200 New Jersey Avenue SE, Washington, DC, 20590.

Contents

1. What is the background and purpose of these guidelines?

2. To which DOT operating administrations do these guidelines apply?

3. What are the scope, nature and legal effect of these guidelines?

Scope

Influential Information

Protecting Data

Nature and Legal Effect

4. What types of information are not subject to these guidelines?

5. What general standards of quality are DOT operating administrations implementing?

Utility

Objectivity

Integrity

Accessibility

Public Access to Government Information (Open Data)

Re-use of Existing DOT Program Data

6. What additional standards of quality are DOT operating administrations implementing for statistical information?

7. What processes does DOT utilize to ensure information quality before it is disseminated?

8. What are DOT's procedures concerning requests for correction of information?

May I request a correction of information from the Department?

Where do I submit a request for correction of information?

How does the Department process incoming requests for correction?

What should you include in a request for correction of information?

May the Department reject a request for correction of information?

Who has the burden of proof with respect to corrections of information?

What determinations does the Department make concerning a request for correction of information?

How does the Department process requests for correction concerning information on which the Department has sought public comment?

How may I appeal the Department's decision on a request for correction?

9. What are the department's reporting requirements?

10. What are the definitions associated with these guidelines?

1. What is the background and purpose of these guidelines?

The Department of Transportation (DOT) is updating guidelines originally released in 2002 to implement Section 515 of the Treasury and General Government Appropriations Act for Fiscal Year 2001 (Pub. L. 106-554). The Office of Management and Budget (OMB) previously issued guidelines under Section 515 which direct Federal agencies subject to the Paperwork Reduction Act (44 U.S.C. Chapter 35) to establish and implement written guidelines to ensure and maximize the quality, utility, objectivity and integrity of the information that they disseminate. These updated 2019 DOT guidelines apply to a wide variety of substantive information dissemination activities to meet basic information quality standards set forth by Section 515. Under Section 515, the Department is responsible for carrying out the OMB information quality guidelines as well as for implementing its own guidelines that are set forth in this document. Consequently, when this document refers to “the guidelines,” it should be taken to refer to the OMB guidelines, as applied to DOT programs and activities, as well as the 2019 DOT guidelines themselves, unless the context suggests otherwise.

The purpose of these 2019 DOT guidelines is to provide a framework for DOT's compliance with the OMB guidelines, and to provide affected persons an opportunity to seek and obtain correction of information maintained and disseminated by DOT that does not comply with these guidelines. DOT has designated the Departmental Chief Information Officer (CIO) as the senior official responsible for DOT compliance with these guidelines. Administrators of DOT's Operating Administrations (OAs) are also responsible for ensuring proper implementation of these Departmental guidelines. The CIO is responsible for the Office of the Secretary's compliance.

In implementing these guidelines, the Department acknowledges that ensuring the quality of information is an important management objective that takes its place concurrently with other Departmental objectives, such as ensuring the success of agency missions, observing budget and resource priorities and restraints, and providing useful information to the public.

These guidelines were updated in 2019 to reflect current procedures and compliance with OMB's Memorandum M-19-15. Implementation updates from that memorandum are footnoted where they are addressed in this update.

2. To which DOT operating administrations do these guidelines apply?

These guidelines apply to the Office of the Secretary of Transportation (OST) and to the following DOT OAs.

• Federal Aviation Administration (FAA)

• Federal Highway Administration (FHWA)

• Federal Motor Carrier Safety Administration (FMCSA)

• Federal Railroad Administration (FRA)

• Federal Transit Administration (FTA)

• Maritime Administration (MARAD)

• National Highway Traffic Safety Administration (NHTSA)

• Pipeline and Hazardous Materials Safety Administration (PHMSA)

• Saint Lawrence Seaway Development Corporation (SLSDC)

DOT OAs may adopt further guidance, consistent with these guidelines, to address the specifics of their programs and information products.

3. What are the scope, nature and legal effect of these guidelines?

Scope

These guidelines apply to certain information (including both statistical and non-statistical data, as well as computer software (including code) as defined in 48 CFR 27.401 and 48 CFR 2.101 and in accordance with the Federal Source Code Policy). These guidelines apply to information disseminated by DOT on or after October 1, 2002, regardless of when the information was first disseminated. Maintenance of information on DOT websites or paper files does not, in itself, subject information disseminated before this date to the guidelines. However, information that the Department maintains in a way that is readily available to the public and that continues to play a significant, active role in Department program or in private sector decisions is subject to the guidelines. These guidelines apply to information dissemination in all media (printed, electronic, or in other form). When the Department has performed analysis using a specialized set of computer code, the computer code used to process it should be made available to the public for further analysis, if consistent with applicable law and policy.¹ As is the intent of OMB's guidelines, DOT's guidelines will focus primarily on the dissemination of substantive information (e.g., reports, tabular and geospatial datasets, analyses, studies, summaries) rather than information pertaining to basic agency operations.

¹ Implementation Update 3.2, OMB Memorandum M-19-15, April 24, 2019.

The standards of these guidelines apply only to information that DOT generates. However, these guidelines serve as recommendations for information that external sources provide to DOT, if the external parties seek to have the Department rely upon or disseminate this information or the Department decides to do so. When using non-government sources to create influential information (as defined below) that is communicated to the public, DOT will include sufficient information on the characteristics of the data and analysis, including its scope, generation protocols, and any other information necessary to allow the public to reproduce that source's conclusions.² For example, suppose that a trade association, in commenting on a proposed rule, supplies a scientific or technical study or an economic analysis in support of its position on what the final rule should say. For DOT to rely on this information in a subsequent DOT dissemination of information (e.g., as part of the basis cited for decisions in the final rule), the quality of the trade association's information would have to be consistent with these guidelines. Likewise, if the Department disseminates information originally created by, for example, a contractor or consultant, these guidelines would apply. The types of Departmental information not subject to these guidelines are outlined in Section 4.

² Implementation Update 3.3, OMB Memorandum M-19-15, April 24, 2019.

Influential Information

The OMB guidelines and subsequent Information Quality Bulletin for Peer Review define “influential information” as information that the agency reasonably can determine “will have or does have a clear and substantial impact on important public policies or important private sector decisions.” This definition applies only to scientific, financial, or statistical information. DOT defines “scientific information” as in the Information Quality Bulletin for Peer Review (excerpted below) and notes that DOT considers financial and statistical information to be types of scientific information.

“The term “scientific information” means factual inputs, data, models, analyses, technical information, or scientific assessments based on the behavioral and social sciences, public health and medical sciences, life and earth sciences, engineering, or physical sciences. This includes any communication or representation of knowledge such as facts or data, in any medium or form, including textual, numerical, graphic, cartographic, narrative, or audiovisual forms. This definition includes information that an agency disseminates from a web page, but does not include the provision of hyperlinks to information that others disseminate. This definition does not include opinions, where the agency's presentation makes clear that what is being offered is someone's opinion rather than fact or the agency's views.”

Note that the definition above applies to information itself, not to decisions that the information may support. The guidelines assign to DOT the task of defining “influential information” in ways appropriate to the agency and its various programs.

At DOT, influential information may be used to support rulemakings, regulatory actions, and analysis or other purposes. Every decision DOT makes based on disseminated information is important to someone. That does not mean that disseminated information used for each decision is influential, as the term is used in the guidelines.

In rulemakings, influential information is scientific, financial, or statistical information that can reasonably be regarded as being one of the major factors in the resolution of one or more key issues in a significant rulemaking, as that term is defined in Executive Order 12866. DOT's interpretation of influential information reflects the “clear and substantial impact” language in the OMB guidelines language. The reference to key issues on significant rules reflects the “important” public policy language of the guidelines.

In non-rulemaking contexts, DOT considers two factors in determining whether information is influential.

• Breadth: Influential information affects a broad number and/or range of stakeholders or parties (e.g., an entire industry or a significant part of an industry, as opposed to a single company). In making this determination, the Department would also evaluate the overall magnitude of the impact of the information, not only its impact on a per capita or per unit basis.

• Impact: Influential information has a substantial economic, regulatory, or behavioral impact, as determined by the DOT Component. In considering whether information has a substantial impact, DOT Components consider the same kinds of factors that cause a rule to be an economically significant rule as defined in Executive Order 12866. DOT-initiated or sponsored distribution of influential information may be novel, controversial, and/or precedent-setting.

When DOT substantially changes information that it disseminates, such as through a change in information collected under the Paperwork Reduction Act (PRA), DOT will re-evaluate the information disseminated to determine whether it is influential. DOT reserves the right to designate other information as influential provided the information is scientific, financial, or statistical, although Components should not designate information products or types of information as influential without consultation with the Department Chief Information Officer.

Protecting Data

DOT is prioritizing increased access to the data and analytic frameworks (e.g., models) used to generate influential information. Data disclosures will be consistent with statutory, regulatory, and policy requirements for protections of privacy and confidentiality, proprietary data, and confidential business information.³ DOT uses and continues to explore methods that provide wider access to datasets while reducing the risk of disclosure of personally identifiable information (PII) and/or sensitive data. Implementation of these approaches (e.g., tiered access) is consistent with principles for ethical governance, which include employing sound data security practices, protecting individual privacy, maintaining appropriate confidentiality, and ensuring appropriate access and use.⁴ These methods apply to both government and non-government information and data used in the development of influential information and data. DOT retains data in accordance with established records schedules and the DOT Records Management Policy (DOT Order 1351.28).⁵

³ Implementation Update 3.4, OMB Memorandum M-19-15, April 24, 2019.

⁴ Implementation Update 3.5, OMB Memorandum M-19-15, April 24, 2019.

⁵ https://www.transportation.gov/digitalstrategy/policyarchive/Records-Management.

Nature and Legal Effect

These guidelines are policy views of DOT. They are not intended to be, and should not be construed as, legally binding regulations or mandates. These guidelines are intended only to improve the internal management of DOT and do not create any right or benefit, substantive or procedural, enforceable at law or equity, by any party against the United States, its agencies (including DOT or any Component), officers, or employees, or any person.

This guidance is not legally binding in its own right and will not be relied upon by the Department as a separate basis for affirmative enforcement action or other administrative penalty. Conformity with this guidance is voluntary only and nonconformity will not affect rights and obligations under existing statutes and regulations.

4. What types of information are not subject to these guidelines?

The following information is not subject to these guidelines:

• Distribution of information that is intended to be limited to government employees, agency contractors or grantees;

• Distribution of information that is intended to be limited to intra- or inter- agency use or sharing of government information; responses to requests under FOIA, Privacy Act, the Federal Advisory Committee Act or other similar laws;

• Predisclosure Notification to Submitters of Confidential Commercial Information (49 CFR 7.29);

• Distribution limited to correspondence with individuals or persons (regardless of medium, e.g., email). The possibility of further distribution by the recipient does not cause such correspondence to be subject to these guidelines. However, information sent by letter to a wide variety of individuals (e.g., a “Dear Colleague” letter sent to heads of all recipients of financial assistance from a DOT OA) would be subject to coverage under these guidelines;

• Archival records disseminated by Federal agency libraries, websites, or similar Federal data repositories; (e.g., inactive or historical materials in DOT libraries and other data collections—including bibliographies or responses to reference requests pertaining to such materials);

• Public filings, such as material filed by DOT or non-DOT parties in DOT dockets or by DOT in other agencies' dockets. For example, a study filed in the DOT docket by a commenter on a proposed rule does not become subject to these guidelines simply because it has been filed there. However, if the Department chooses to rely on the study in the rulemaking or another information product, the study would become subject to these guidelines because of the Department's use of it;

• Contents of the National Transportation Library that are not products of DOT-funded research or DOT-funded data collections.

• Information intended to be limited to subpoenas and adjudicatory processes. These processes would include:

1. Court or administrative litigation (e.g., briefs and attachments, or other information that the Department submits to the court or other decision maker);

2. Administrative enforcement proceedings conducted by the Department;

3. Civil rights and personnel complaints and reviews conducted by the Department (e.g., under Titles VI and VII of the Civil Rights Act; the Americans with Disabilities Act; Sections 501, 504 and 508 of the Rehabilitation Act of 1973; Title IX of the Education Amendments of 1972, and Disadvantaged Business Enterprise matters);

4. Debarment and suspension matters, 49 CFR part 29 (Federal-aid contracts) and 48 CFR part 9 (direct contracts);

5. Merit System Protection Board matters (Sections 7511, 7543, and 70701 of Title 5, United States Code);

6. Locomotive engineer certification matters, 49 CFR part 240, subpart E-Dispute Resolution procedures;

• Hyperlinks to information that others disseminate (as well as paper-based information from other sources referenced but not adopted or endorsed by DOT);

• Views or opinions, where the presenter makes it clear that what is being offered is someone's opinion rather than fact or the Department's views;

• Information presented to Congress as part of the legislative or oversight processes (e.g., testimony of DOT officials, information or drafting assistance provided to Congress about pending or proposed legislation or oversight) that has previously been subject to the guidelines, is primarily a statement of the views of the Department on an issue, or is provided to a member of Congress who then disseminates it publicly. However, the Department would treat studies or other information products that are presented to Congress, and that have not previously been subject to these guidelines, as being covered.

• Press releases and other information of an ephemeral nature, advising the public of an event or activity of a finite duration—regardless of medium. Information products referenced in such releases may be subject to the guidelines, however (e.g., a study referred to in a press release); and

• Procedural, operational, policy, and internal manuals prepared for the management and operations of DOT that are not primarily intended for public dissemination. This includes personnel notices such as vacancy announcements.

5. What general standards of quality are DOT operating administrations implementing?

DOT has traditionally utilized standards, policies, and other operational guidelines to ensure the quality of all its disseminated information. Incorporating these guidelines further reinforces DOT's commitment of meeting higher standards of quality prior to disseminating information to the public. The Department has made implementation of these guidelines a part of its performance plan, including performance goals and standards.

To ensure compliance with these guidelines, each DOT Component is responsible for appointing a data quality official who will serve as the liaison for implementing these guidelines within its organization.

OMB's guidelines define “quality” as an encompassing term comprising utility, objectivity, and integrity. Therefore, the guidelines sometimes refer to these statutory terms, collectively, as “quality.” At a minimum, a basic standard of quality is established for all DOT information prior to its dissemination. In addition, repeatedly or continuously disseminated information is reviewed on a regular basis to ensure all information is current and complies with these guidelines. Specifically, DOT will set the following standards at levels appropriate to the nature and timeliness of substantive information to be disseminated.

Utility

DOT Components will assess the usefulness of the information to be disseminated to the public. The originating office will continuously monitor the information needs and develop new sources or revise existing methods, models, and information products where appropriate.

DOT's policy is to disseminate information in machine-readable and open formats, to the greatest extent possible, such that the information that can be easily consumed by a wide external audience. DOT's Data Management Policy (DOT Order 1351.34) outlines requirements for interoperability and standardization of data and information.

DOT's policy is to provide the public with sufficient documentation about each dataset released to allow data users to determine the fitness of the data for the purpose for which third parties may consider using it.⁶ DOT may employ templates or frameworks provide data users with the relevant information.

⁶ Implementation Update 2.2, OMB Memorandum M-19-15, April 24, 2019.

Objectivity

DOT Components will ensure disseminated information is accurate, clear, complete, and unbiased in substance and presentation, and presented in a proper context. The originating office will use reliable data sources and sound analytical techniques. Quality control procedures will be included when data is created or processed. To the extent possible and consistent with confidentiality protections, the originating office will identify the source of disseminated information so that the public can assess whether the information is objective. The 2012 version of DOT's Scientific Integrity Policy,⁷ states:

⁷ Available at https://www.transportation.gov/sites/dot.gov/files/docs/mission/administrations/assistant-secretary-research-and-technology/282391/scientificintegritypolicy.pdf.

“The Department is dedicated to preserving the integrity of the research it conducts and funds. It will not tolerate misconduct in the performance of these activities nor in the application of these activities to decision-making. Political appointees at DOT should never suppress or alter research findings or conclusions. Political appointees are not to censure or coerce DOT employees to alter scientific findings. This policy encompasses all sciences including hard, natural and life, and social sciences, and all findings including results derived from data (actual or simulated).”

DOT employees are prohibited from any behavior that attempts to inappropriately alter the scientific process or to suppress, fabricate, or falsify scientific findings.

The Department follows a policy of determining, in consultation as appropriate with relevant scientific and technical communities, when it is useful and practicable to apply reproducibility standards to original and supporting data. In making such determinations, the Department will be guided by commonly accepted scientific, financial or statistical standards, as applicable. The Department's Scientific Integrity Policy guides its scientific research. With respect to analytic results, the Department's policies favor sufficient transparency about methods to allow independent reanalysis by qualified members of the public. In situations where public access will not occur (e.g., because of confidentiality requirements or the use of proprietary models), the Department's policy is to apply and document especially rigorous robustness checks.

In OMB's guidelines, one of the aspects of ensuring objectivity concerns the use of peer review. For information products to which peer review is relevant, OMB's guidelines create a rebuttable presumption that the information meets the OMB guidelines' objectivity standards if the data and analytic results have been subject to formal, independent, external peer review. Anyone seeking to rebut this presumption (i.e., as part of the request for correction process) would have the obligation of demonstrating that the information was not substantively accurate, clear, complete, or unbiased, both as to substance and presentation, and in a proper context.

With respect to influential scientific information disseminated by the DOT Components regarding analysis of risks to human health, safety, and the environment, DOT Components will adopt, with respect to the analysis in question, quality principles of the Safe Drinking Water Act of 1996 (42 U.S.C. 300g-1(b)(3)(A) & (B), except where the agency adapts these principles to fit the needs and character of the analysis. These principles are as follows:

• Use the best available science and supporting studies conducted in accordance with sound and objective scientific practices, including peer-reviewed studies where available.

• Use data collected by accepted methods or best available methods, in accordance with all applicable standards (if the reliability of the method and the nature of the decision justifies the use of the data), and document methods used in metadata which accompanies disseminated datasets.

• In the dissemination of influential scientific information about risks, ensure that the presentation of information is comprehensive, informative, and understandable, and that influential information is accompanied by a clear explanation of underlying assumptions. In a document made available to the public, specify, to the extent practicable:

1. Each population addressed by any estimate of applicable effects.

2. The expected risk or central estimate of risk for the specific populations affected.

3. Each appropriate upper bound or lower-bound estimate of risk.

4. Each significant uncertainty identified in the process of the risk assessment and studies that would assist in reducing the uncertainty.

5. Any additional studies, including peer-reviewed studies, known to the agency that support, are directly relevant to, or fail to support the findings of the assessment and the methodology used to reconcile inconsistencies in the scientific data.

In 2019, DOT revisited the parameters for identifying and disseminating influential information. DOT will provide guidance for determining the amount and type of pre-dissemination review necessary, specific types of information that are influential and a rigorous process for determining whether types of information not specifically listed in the guidelines qualify as influential.⁸ DOT will ensure that influential information is communicated transparently by including a clear explication of underlying assumptions, accurate contextualization of uncertainties, and a description of the probabilities associated with both optimistic and pessimistic projections, including best-case and worst-case scenarios.⁹

⁸ Implementation Update 1.1, OMB Memorandum M-19-15, April 24, 2019.

⁹ Implementation Update 3.1, OMB Memorandum M-19-15, April 24, 2019.

Prior to dissemination, all influential information produced by the DOT shall be peer reviewed by subject matter experts (may be either internal or external to DOT, or both) that have not participated in the preparation of the influential information being reviewed. When using scientific information, including third-party data or models, to support their policies, DOT will comply with the requirements of OMB's Information Quality Bulletin for Peer Review. DOT will ensure reviewers are asked to evaluate the objectivity of the underlying data and the sensitivity of conclusions to analytic assumptions. Furthermore, when influential information that has been peer-reviewed changes significantly, DOT will conduct a second peer review.¹⁰ Peer review will also apply to influential information in economically significant regulations under Executive Order 12866.

¹⁰ Implementation Updates 1.2-1.4, OMB Memorandum M-19-15, April 24, 2019.

Integrity

DOT's policy is to ensure that information is protected from unauthorized access, corruption or revision (i.e., make certain disseminated information is not compromised through corruption or falsification). The Department will apply appropriate protections to information as determined by DOT policy. DOT Components will comply with relevant Department policies that protect the integrity of information, including but not limited to:

• DOT Order 1351.18, Departmental Privacy Risk Management Policy

• DOT Order 1351.37, Departmental Cybersecurity Policy

Accessibility

DOT's policy is to ensure that all disseminated information (including electronic and web-based media) is accessible to all persons. DOT Components will comply with relevant Departmental policies that ensure the accessibility of disseminated information, including but not limited to DOT Order 1351.23, Electronic and Information Technology (EIT) Accessibility Policy.

Public Access to Government Information (Open Data)

When DOT makes available information originally collected by another agency, the contributing agency is responsible for the quality of the information they contribute, and DOT will clearly communicate that responsibility.

DOT's policy is to provide the public with sufficient documentation about each dataset to allow data users to determine fitness for purpose. DOT will, when applicable, safeguard privacy and confidentiality when releasing data. DOT Components will comply with the DOT Order 1351.34, Departmental Data Management Policy, when disseminating, sharing, safeguarding, and evaluating data and information.

Re-Use of Existing DOT Program Data

DOT will:

• Consider potential for using existing data sources from inside and outside the agency for statistical and research purposes, while protecting privacy and confidentiality.

• Solicit comments about downstream uses from statistical, research, and evaluation agencies/offices when designing or improving data collection systems.

• Coordinate with the Senior Agency Official for Privacy if considering secondary analysis that involves PII.

• Develop procedures for clearly documenting the quality of administrative data that have the potential to be used for statistical purposes.¹¹

¹¹ Implementation Updates 2.3-2.6, OMB Memorandum M-19-15, April 24, 2019.

DOT's Data Management Policy (DOT Order 1351.34) also provides detailed information regarding re-use of data and information.

6. What additional standards of quality are DOT operating administrations implementing for statistical information?

The Bureau of Transportation Statistics (BTS) provides additional guidance for statistical information. Under 49 U.S.C. 6302(b)(3)(B), the BTS Director is required to:

• Continually improve surveys and data collection methods of the Department to improve the accuracy and utility of transportation statistics;

• Encourage the standardization of data, data collection methods, and data management and storage technologies for data collected by the Bureau; the operating administrations of the Department (OAs); State and local governments; metropolitan planning organizations; and private sector entities;

• Build and disseminate the transportation layer of the National Spatial Data Infrastructure. . . including by coordinating the development of transportation geospatial data standards, compiling intermodal geospatial data, and collecting geospatial data that is not being collected by other entities;

• Issue guidelines for the collection of information by the Department that the BTS Director determines necessary to develop transportation statistics and carry out modeling, economic assessment, and program assessment activities to ensure that such information is accurate, reliable, relevant, uniform, and in a form that permits systematic analysis by the Department;

• Review and report to the Secretary on the sources and reliability of the statistics proposed by the heads of the OAs of the Department to measure outputs and outcomes as required by the Government Performance and Results Act of 1993 (Pub. L. 103-62; 107 Stat. 285); and at the request of the Secretary, any other data collected or statistical information published by the heads of the OAs of the Department; and

• Ensure that the statistics published under [49 U.S.C. 6302] are readily accessible to the public, consistent with applicable security constraints and confidentiality interests.

BTS has published a Statistical Standards Manual,¹² a Guide to Good Statistical Practice in the Transportation Field,¹³ and a Confidentiality Policy.¹⁴ BTS maintains these documents to reflect current statistical policies and methods regarding data quality and confidentiality as well as challenges related to new data sources and analytical methods. The most current version of these manuals and guides applies.

¹² Available at https://www.bts.gov/learn-about-bts-and-our-work/statistical-methods-and-policies/bts-statistical-standards-manual.

¹³ Available at https://www.bts.gov/archive/publications/guide_to_good_statistical_practice_in_the_transportation_field/index.

¹⁴ Available at https://www.bts.gov/confidentiality.

As one of the 13 principal federal statistical agencies, BTS adheres to all Statistical Policy Directives of the Office of Management and Budget (OMB). These directives are published at https://www.whitehouse.gov/omb/information-regulatory-affairs/statistical-programs-standards/.

7. What processes does DOT utilize to ensure information quality before it is disseminated?

DOT's policy is to conduct a pre-dissemination review on all information it disseminates on or after October 1, 2002. During this review, each DOT organization shall conduct subject matter expert (internal or external, or both) peer reviews and other review mechanisms to ensure the quality of all disseminated information. The costs and benefits of using a higher quality standard or a more extensive review process will be considered in deciding the appropriate level of review and documentation. With respect to information collection requirements covered by the PRA, the Department will ensure that these requirements are consistent with the guidelines and will so state in the PRA submission to OMB. The main components of DOT's pre-dissemination review policy are:

• Allow adequate time for reviews, consistent with the level of standards required for the type of information to be disseminated. Consult with other stakeholders who have a substantial interest in the proposed dissemination of the information.

• Verify compliance with these guidelines (i.e., utility, objectivity, integrity and accessibility requirements) as well as other DOT organization specific guidance/procedures;

• With respect to information a DOT organization believes to be influential, maintain internal records of what additional standards will be applied to ensure its quality.

• Ensure that the entire information product fulfills the intentions stated and that the conclusions are consistent with the evidence;

• Indicate origin of data (when including data from an external source); and

• Ensure that each program office can provide additional data or metadata on the subject matter of any covered information it disseminates.

8. What are DOT'S procedures concerning requests for correction of information?

You may request the correction of information from the Department, but not all requests for correction fall under these Guidelines. For instance:

• The DOT maintains certain information about individuals in its systems of records that those individuals may know or suspect is inaccurate, irrelevant, untimely, or incomplete. In such cases, the Privacy Act permits those individuals to request that the DOT correct or amend the information. To learn more about your rights under the Privacy Act, please visit: https://www.transportation.gov/privacy.

• The DOT maintains information in support of its basic agency operations that relevant parties may have an opportunity to correct. In such cases, individual DOT programs may develop their own review and redress procedures that are not subject to these Guidelines. To learn more about such programs, please visit the website of the relevant DOT OA.

To request correction of information that is subject to these Guidelines, follow the procedures below.

May I request a correction of information from the Department?

You may request that the Department correct information disseminated after October 1, 2002. Information originally disseminated before October 1, 2002, is subject to this correction process if it remains publicly available (e.g., it is posted on a DOT website or the Department makes it available on a generally distributed information source) and it continues to play a significant, active role in Department programs or in private sector decisions. If data or information is already covered by an existing quality review process, it will be addressed by that process and not by the correction of information procedure described here. If the information relates to a final Environmental Impact Statement (EIS), the DOT organization may handle the request as though it were a request for a Supplemental EIS.

Where do I submit a request for correction of information?

You may make a request for correction of information or request for reconsideration by emailing InformationQuality@dot.gov. If you wish to use postal mail, please send your request to: U.S. Department of Transportation (DOT), Docket Management, Re: Request for Correction of Information under the Information Quality Act, West Building, Room W12-140, 1200 New Jersey Avenue SE, Washington, DC 20590.

How does the Department process incoming requests for correction?

We will post incoming requests for correction, requests for reconsideration and DOT organizational responses on the Federal Dockets Management System.

You should be aware that the Department is not required to change, or in any way alter, the content or status of information simply based on the receipt of a request for correction. Nor does the receipt of a request, or consideration by the Department, result in staying or changing any action of the Department. The receipt of a request for correction likewise does not affect the finality of any decision of a DOT Component.

What should you include in a request for correction of information?

You should:

• Include a statement that you are submitting a request for correction of information under DOT's Information Dissemination Quality Guidelines.

• Include your name, mailing address, email address, telephone number and organizational affiliation, if any.

• Describe how the information in question affects you (e.g., how an alleged error harms you, and/or how the correction will benefit you).

• Clearly identify the report, dataset, or other document that contains the information you want the Department to correct. Please include identifying characteristics such as title, date, and how information was accessed.

• Not rely solely on general statements that allege some type of error. You should specify, in detail, why you believe the information in question is inconsistent with the Department's and/or OMB's information quality guidelines (i.e., how the information fails to meet standards of integrity, utility, and/or objectivity).

• Include any documents and/or evidence you believe is relevant to your request (e.g., comparable data or research results on the same topic).

• Specify what corrections you wish for DOT to make to the information and why the recommended corrections would make the information more consistent with DOT's and/or OMB's information quality guidelines.

May the Department reject a request for correction of information?

Once the appropriate data quality official has received your request for correction of information s/he will review your request and answer the following questions to determine if your request for correction is valid:

1. Did DOT (as opposed to some other person or organization) disseminate the information you are requesting to be corrected?

2. Is the information about which you are requesting a correction from DOT covered by these Guidelines (see Section 4)?

3. Is your request frivolous or not germane to the substance of the information in question?

4. Has DOT responded previously to a request that is the same or substantively very similar? (Note: This does not mean that the Department would automatically reject a second or subsequent information correction request concerning the same information product. If one party made a request concerning one aspect of the information product, and a second party made a request concerning a different aspect of the same product, the two requesters are seeking correction on different grounds and it could be appropriate for the Department to consider both).

5. With respect to information in a final rule, final environmental impact statement, or other final document on which there was an opportunity for public comment or participation with respect to the compliance of the information with these guidelines, could interested persons have requested the correction of the information at the proposed stage?

If the DOT organization determines that the answer to 1,2, or 3 is “no” or that the answer to Question 4, 5, or 6 is “yes,” DOT has the discretion to reject your request without responding to it on its merits.

If DOT rejects your request, the DOT OA will send a written response explaining why. Normally, the DOT OA will send this response within 60 calendar days of receiving your request. The DOT OA will file this response in the Federal Docket Management System. If the DOT organization does not reject your request, it will consider the request on its merits. DOT will not opine on the requestor's or DOT's policy position. DOT's response will contain a point-by-point response to any data quality arguments contained in the request for correction and will refer to a peer review that directly considered the issue being raised, if available. Prior to the release to the requestor, DOT will share a draft response with OMB for assessment of compliance with the above norms.¹⁵

¹⁵ Implementation Updates 4.2-4.4, OMB Memorandum M-19-15, April 24, 2019.

Who has the burden of proof with respect to corrections of information?

As the requester, you bear the burden of proof with respect to the necessity for correction as well as with respect to the type of correction you seek.

What determinations does the Department make concerning a request for correction of information?

If DOT considers your request on its merits (that is, does not reject it for one of the reasons stated above), DOT will make the determination whether information subject to the DOT information quality guidelines complies with the guidelines. In doing so, the Department will consider whether the information or the request for correction is stale. If DOT did not disseminate this information recently (i.e., within one year of your request), or it does not have a continuing significant impact on DOT projects or policy decisions or on important private sector decisions, we may regard the information as stale for purposes of responding to a correction request, unless the requestor can show that he or she is affected by its dissemination. If we determine that information subject to the 2019 DOT guidelines does not comply with the guidelines, the Department will decide what correction is appropriate to make to ensure compliance. While the Department's policy is to correct existing information when necessary, the Department is not obligated to generate new or additional information to respond to requests for correction.

The DOT provides a response directly to the requestor. This response will normally be issued within 60 calendar days of receiving the request. If the response will take significantly longer, DOT will inform the requester that more time is required and indicate the reason why and an estimated decision date. DOT will not take more than 120 days to respond without first seeking the concurrence of the requester.¹⁶ This written explanation to the requestor will also be filed in the Federal Dockets Management System.

¹⁶ Implementation Update 4.1, OMB Memorandum M-19-15, April 24, 2019.

How does the Department process requests for correction concerning information on which the Department has sought public comment?

Information in rulemakings and other documents concerning which public participation and comment are sought are subject to these guidelines. However, the Department may respond to requests for correction concerning such information through a different process than we use for other types of information. When the Department seeks public comment on a document and the information in it (e.g., a notice of proposed rulemaking (NPRM), studies cited in an NPRM, a regulatory evaluation or cost-benefit analysis pertaining to the NPRM; a draft environmental impact statement; a proposed policy notice or aviation order on which comment has been sought; a request for comments on an information collection subject to the Paperwork Reduction Act), there is an existing mechanism for responding to a request for correction. This mechanism is a final document that responds to public comments (e.g., the preamble to a final rule). Consequently, our response to a request for correction of such information will normally be incorporated in the next document we issue in the matter.

The Department would consider making an earlier response, if doing so (1) would not delay the issuance of the final action in the matter; and (2) the Department determined that there would be an unusually lengthy delay before the final document would be issued or the requester had persuaded the Department that there was a reasonable likelihood that the requester would suffer actual harm if the correction were not made before the final action was issued.

Once again, the DOT organization will place its response in the Federal Dockets Management System. As noted above, a DOT Component may reject a request for correction with respect to information in a final document if there was an opportunity for public comment or participation with respect to the compliance of information to these guidelines and interested persons could have requested the correction of the information at the proposed stage.

How may I appeal the Department's decision on a request for correction?

You may request reconsideration under this section if you have requested a correction of information under these guidelines, and you are not satisfied with the DOT organization's response. You should request reconsideration within 30 days of the date you received the DOT Component's decision on your original request for correction.

You should send your request in the same manner, and to the same address, as provided above.

DOT will assign an official or establish a reconsideration panel to determine if additional corrective action is needed, and will issue a written response to the requestor stating the reasons for the decision. DOT will share a draft response of the appeal with OMB prior to release to the requestor for assessment of compliance with the above norms. To protect the integrity of the appeals process, DOT will ensure that individuals reviewing and responding to the appeals request were not involved in the review and initial response to the request for correction.¹⁷

¹⁷ Implementation Updates 4.4-4.5, OMB Memorandum M-19-15, April 24, 2019.

This guidance is non-regulatory and is not intended to constitute a set of legally binding requirements. However, DOT may be unable to process requests that omit one or more of the requested elements. DOT will attempt to contact and work with requesters to obtain additional information when warranted.

The Department maintains records of all corrections and appeals requests. These records may contain contact information provided by you as authorized by Section 515 of the Treasury and General Government Appropriations Act for Fiscal Year 2001 ¹⁸ (Pub. L. 106-554, codified at 44 U.S.C. 3516). Contact information is needed to respond to your request and initiate follow-up contact with you if necessary. We may disclose part of the records relating to a correction or correction appeals, including requestor contact information to a congressional office in response to an inquiry made on your behalf, to the Department of Justice, a court, other tribunal when the information is relevant and necessary to litigation, or to a contractor or another Federal agency to help accomplish a function related to this process.

¹⁸ https://www.govinfo.gov/content/pkg/PLAW-106publ554/pdf/PLAW-106publ554.pdf.

9. What are the department's reporting requirements?

The Departmental Office of the Chief Information Officer will provide annual reports to OMB, including the number and nature of complaints received concerning agency compliance as well as how complaints were resolved.

10. What are the definitions associated with these guidelines?

DOT has adopted the definitions of terms set forth in The Office of Management and Budget's Guidelines for Ensuring and Maximizing the Quality, Objectivity, Utility, and Integrity of Information Disseminated by Federal Agencies. The following information explains further the way that DOT uses some of these terms.

Reproducibility. Documented methods are capable of being used on the same data set to achieve a consistent result. For more information on this term, please refer to OMB's guidelines.

Dissemination. As provided in OMB's guidelines, these guidelines apply only to information disseminated on or after October 1, 2002. The fact that an information product that was disseminated by DOT before this date is still maintained by the Department (e.g., in DOT's files, in publications that DOT continues to distribute on a website) does not make the information subject to these guidelines or to the request for correction process. As noted above, the Department's policy is to treat as subject to the guidelines information that we maintain in a way that is readily available to the public and that continues to play a significant, active role in Department programs or in private sector decisions.

For example, suppose that DOT first issued a study in 1999. The study is relied upon in a 2000 DOT organization publication, and the DOT organization makes the publication available on its website. This study is not subject to these guidelines or to the request for correction process just because it is “archived” in an available paper publication or website. However, if DOT issues a notice of proposed rulemaking in 2003 that relies on the same study, then it becomes subject to these guidelines—because it then has been disseminated (or, one might say “re-disseminated”) after October 1, 2002.

Departmental Components. Offices, divisions, Operating Administrations (OAs) and comparable elements of the DOT.

Departmental Chief Information Officer (CIO). The Departmental CIO is the senior management official responsible for the DOT Information Dissemination Quality Program.

Data Quality Administrator (DQA). Designated representative in the Office of the CIO responsible for compiling agency reports and serving as agency liaison to OMB.

Data Quality Official (DQO). The DQO serve as the point of contact for the Departmental CIO/Data Quality Administrator and will be responsible for implementing these guidelines within their organization.

Federal Docket Management System. An electronic, image-based database in which all DOT docketed information is stored for easy research and retrieval.

Docket. A docket is an official public record. DOT publishes and stores online information about proposed and final regulations, copies of public comments on proposed rules, and related information in the Federal Docket Management System. DOT uses this docketed material when making regulatory and adjudicatory decisions, and makes docketed material available for review by interested parties. Specific documents covering the same issues are stored together in a docket.

[FR Doc. 2019-21769 Filed 10-4-19; 8:45 am]

BILLING CODE P